DEPARTMENT OF COMMERCE

National Oceanic and Atmospheric Administration

RIN 0648-XC477

Marine Mammals; File No. 17754

AGENCY: National Marine Fisheries Service (NMFS), National Oceanic and Atmospheric Administration (NOAA), Commerce.

ACTION: Notice; issuance of permit.

SUMMARY: Notice is hereby given that a public display permit has been issued to Sea World, Inc., 9205 South Park Circle, Suite 400, Orlando, FL 32819.

ADDRESSES: The application and related documents are available for review upon written request or by appointment at the Permits and Conservation Division, Office of Protected Resources, NMFS, 1315 East-West Highway, Room 13705, Silver Spring, MD 20910; phone (301) 427-8401; fax (301) 713-0376.

FOR FURTHER INFORMATION CONTACT: Jennifer Skidmore or Amy Sloan, (301) 427-8401.

SUPPLEMENTARY INFORMATION: On February 4, 2013, notice was published in the Federal Register (78 FR 7755) that a request for a permit to import one female, captive-born Pacific white-sided dolphin (Lagenorhynchus obliquidens) had been submitted by the above-named applicant. The dolphin would be imported from Kamogawa SeaWorld 1404-18 Higashi-cho, Kamogawa, Chiba, Japan to Sea World San Antonio, 10500 SeaWorld Drive, San Antonio, TX 78251 for the purposes of public display. The requested permit has been issued under the under the authority of the Marine Mammal Protection Act of 1972, as amended (16 U.S.C. 1361 et seq.), and the regulations governing the taking and importing of marine mammals (50 CFR part 216). The permit is valid through June 30, 2017.

In compliance with the National Environmental Policy Act of 1969 (42 U.S.C. 4321 et seq.), a final determination has been made that the activity proposed is categorically excluded from the requirement to prepare an environmental assessment or environmental impact statement.

Dated: July 1, 2014.
Julia Harrison,
Acting Chief, Permits and Conservation Division, Office of Protected Resources, National Marine Fisheries Service.

[FR Doc. 2014-15778 Filed 7-3-14; 8:45 am]

BILLING CODE 3510-22-P